DEPARTMENT OF THE INTERIOR

Fish and Wildlife Service

Notice of Availability of an Environmental Assessment/Habitat Conservation Plan and Receipt of Application for Construction and Operation of a Residential and Commercial Development on the 307.85-acre Shadow Canyon Property, Williamson County, TX

AGENCY: U.S. Fish and Wildlife Service, Interior.

ACTION: Notice of availability.

SUMMARY: San Gabriel Harvard Limited Partnership (Applicant) has applied to the U.S. Fish and Wildlife Service (Service) for an incidental take permit pursuant to section 10(a) of the Endangered Species Act (Act). The requested permit, which is for a period of 30 years, would authorize incidental take of the endangered golden-cheeked warbler (Dendroica chrysoparia), Bone Cave harvestman (Texella reyesi), and Coffin Cave mold beetle (Batrisodes texanus). The proposed take would occur as a result of the construction and operation of a residential development on 307.85 acres (124.6 hectares) of the Shadow Canyon property, Williamson County, Texas.

DATES: To ensure consideration, written comments must be received on or before February 17, 2006.

ADDRESSES: Persons wishing to review the application may obtain a copy by writing to the Regional Director, U.S. Fish and Wildlife Service, P.O. Box 1306, Room 4102, Albuquerque, New Mexico 87103. Persons wishing to review the Environmental Assessment/Habitat Conservation Plan (EA/HCP) may obtain a copy by written or telephone request to Sybil Vosler, U.S. Fish and Wildlife Service, Ecological Services Office, 10711 Burnet Road, Suite 200, Austin, Texas 78758 (512/490-0057, ext. 225). Documents will be available for public inspection by written request or by appointment only during normal business hours (8 a.m. to 4:30 p.m.) at the U.S. Fish and Wildlife Service Office, Austin, Texas. Data or comments concerning the application and EA/HCP should be submitted in writing to the Field Supervisor, U.S. Fish and Wildlife Service, Ecological Services Office, 10711 Burnet Road, Suite 200, Austin, Texas 78758. Please refer to permit number TE-116313-0 when submitting comments.

FOR FURTHER INFORMATION CONTACT: Sybil Vosler, U.S. Fish and Wildlife Service, Ecological Services Office, 10711 Burnet Road, Suite 200, Austin, Texas 78758 (512/490-0057, ext. 225).

SUPPLEMENTARY INFORMATION: Section 9 of the Act prohibits the “taking” of endangered species such as the golden-cheeked warbler. However, the Service, under limited circumstances, may issue permits to take endangered wildlife species incidental to, and not the purpose of, otherwise lawful activities. Regulations governing permits for endangered species are at 50 CFR 17.22. The Service has prepared an EA/HCP for the incidental take application. A determination of jeopardy or non-jeopardy to the species and a decision pursuant to the National Environmental Policy Act (NEPA) will not be made until at least 60 days from the date of publication of this notice. This notice is provided pursuant to Section 10(c) of the Act and NEPA regulations (40 CFR 1506.6).

Applicant: San Gabriel Harvard Limited Partnership plans to construct a residential and commercial development on 307.85 acres of the Shadow Canyon property, Williamson County, Texas. This action would adversely affect 43.35 acres (17.5 hectares) of oak-juniper woodland resulting in take of one to two pairs of golden-cheeked warblers. The Applicant proposes to compensate for this incidental take of the golden-cheeked warbler by purchasing 86 credits from a conservation bank approved by the Service to preserve 86 acres (35 hectares) of golden-cheeked warbler habitat in perpetuity within the acquisition area of the Balcones Canyonlands National Wildlife Refuge. The development also has the potential to take the Bone Cave harvestman and/or the Coffin Cave mold beetle should previously unknown but occupied voids be discovered during construction. To compensate for this event, the Applicant proposes to establish a 43.84-acre (17.7-hectare) preserve on-site to be managed in perpetuity for the benefit of the endangered karst invertebrates.

Geoffrey L. Haskett,
Acting Regional Director, Region 2, Albuquerque, New Mexico.

[FR Doc. E5-7489 Filed 12-16-05; 8:45 am]

BILLING CODE 4510-55-P